DEPARTMENT OF THE INTERIOR

National Park Service

Notice of Inventory Completion: U.S. Department of Justice, Federal Bureau of Investigation, Resident Agency, Rapid City, SD

AGENCY: National Park Service, Interior.

ACTION: Notice.

Notice is here given in accordance with the Native American Graves Protection and Repatriation Act (NAGPRA), 25 U.S.C. 3003, Sec. 5, of the completion of an inventory of human remains in the possession of the U.S. Department of Justice, Federal Bureau of Investigation, Resident Agency, Rapid City, SD. These human remains were removed from Crystal Cave Park, Pennington County, SD.

This notice is published as part of the National Park Service’s administrative responsibilities under NAGPRA, 25 U.S.C. 3003, Sec. 5 (d)(3). The determinations within this notice are the sole responsibility of the museum, institution, or Federal agency that has control of these Native American human remains. The National Park Service is not responsible for the determinations within this notice.

A detailed assessment of the human remains was made by the Federal Bureau of Investigation, Resident Agency, Rapid City and Smithsonian Institution professional staff in consultation with a representative of the Cheyenne River Sioux Tribe of the Cheyenne River Reservation, South Dakota, representing the interests of the Cheyenne River Sioux Tribe of the Cheyenne River Reservation, South Dakota; Flandreau Santee Sioux Tribe of South Dakota; Oglala Sioux Tribe of the Pine Ridge Reservation, South Dakota; Rosebud Sioux Tribe of the Rosebud Indian Reservation, South Dakota; Santee Sioux Tribe of the Santee Reservation of Nebraska; and Yankton Sioux Tribe of South Dakota.

According to the owners of Crystal Cave Park, a tourist attraction near Rapid City, SD, at an unknown date human remains representing a minimum of two individuals were removed from Crystal Cave, on the premises of Crystal Cave Park, Pennington County, SD, by prior owners of the facility. In 1997, these human remains were seized from a display case at Crystal Cave Park in connection with an investigation by the Federal Bureau of Investigation, Resident Agency, Rapid City. The human remains consist of the the nearly complete cranium of an adult and the left parietal of a child. No known individuals were identified. No funerary objects were present at the time of seizure.

Following seizure, the two sets of human remains were forwarded to the Smithsonian Institution, National Museum of Natural History, for analysis. Analysis indicated that the adult human remains are Native American. Preservation and appearance of the cranium are consistent with a Historic period burial. These human remains probably came from an exposed context, such as a 19th-century above-ground burial. The presence of copper artifact staining further supports this conclusion in that such staining is a common occurrence in Historic period burials. At some time, it appears likely that the human remains were removed from a burial site and placed inside Crystal Cave. The adult human remains show features specifically characteristic of the Sioux. Based upon cranial measurements and morphological comparisons and consultation with the representative of the Cheyenne River Sioux Tribe of the Cheyenne River Reservation, the tribal affiliation of the adult individual is most likely Sioux, with the closest affinity being the Teton division. Teton is the Lakota group of the Sioux found throughout South Dakota.

Analysis indicated that the child human remains, recovered with the skull from Crystal Cave Park, was the left parietal of a child aged approximately 6 months to 1 year. The condition of the parietal suggested a Historic period context. The sex of the child was indeterminate and the Smithsonian Institution could not make a statement on tribal affiliation. Based on the association of the two sets of human remains, the Federal Bureau of Investigation, Resident Agency, Rapid City considers the human remains of the child to belong to the Teton division of the Sioux.

Officials of the Federal Bureau of Investigation, Resident Agency, Rapid City have determined that, pursuant to 25 U.S.C. 3001, Sec. 2 (9-10), the human remains listed above represent the physical remains of two individuals of Native American ancestry. Officials of the Federal Bureau of Investigation, Resident Agency, Rapid City also have determined that, pursuant to 25 U.S.C. 3001, Sec. 2 (2), there is a relationship of shared group identity that can reasonably be traced between these Native American human remains and the Cheyenne River Sioux Tribe of the Cheyenne River Reservation, South Dakota; Flandreau Santee Sioux Tribe of South Dakota; Oglala Sioux Tribe of the Pine Ridge Reservation, South Dakota; Rosebud Sioux Tribe of the Rosebud Indian Reservation, South Dakota; Santee Sioux Tribe of the Santee Reservation of Nebraska; and Yankton Sioux Tribe of South Dakota.

Representatives of any other Indian tribe that believes itself to be culturally affiliated with these human remains should contact Assistant United States Attorney Gregg S. Peterman, U.S. Department of Justice, 515 Ninth Street, Room 201, Rapid City, SD 57701, telephone (605) 342-7822, before April 14, 2003. Repatriation of the human remains to the Cheyenne River Sioux Tribe of the Cheyenne River Reservation may proceed after that date if no additional claimants come forward.

The Federal Bureau of Investigation, Resident Agency, Rapid City is responsible for notifying the Cheyenne River Sioux Tribe of the Cheyenne River Reservation, South Dakota; Flandreau Santee Sioux Tribe of South Dakota; Oglala Sioux Tribe of the Pine Ridge Reservation, South Dakota; Rosebud Sioux Tribe of the Rosebud Indian Reservation, South Dakota; Santee Sioux Tribe of the Santee Reservation of Nebraska; and Yankton Sioux Tribe of South Dakota that this notice has been published.

Dated: January 29, 2003.
John Robbins,
Assistant Director, Cultural Resources Stewardship and Partnerships.

[FR Doc. 03-6216 Filed 3-13-03; 8:45 am]

BILLING CODE 4310-70-S